DEPARTMENT OF COMMERCE

National Oceanic and Atmospheric Administration

50 CFR Part 622

[Docket No. 0907271173-0629-03]

RIN 0648-XA701

Accountability Measures and Reduced Season for the South Atlantic Recreational Sector of Golden Tilefish for the 2011 Fishing Year

AGENCY: National Marine Fisheries Service (NMFS), National Oceanic and Atmospheric Administration (NOAA), Commerce.

ACTION: Temporary rule.

SUMMARY: NMFS implements accountability measures (AMs) for the recreational sector of golden tilefish in the South Atlantic for the 2011 fishing year through this temporary final rule. This rule reduces the length of the 2011 recreational fishing season for golden tilefish based on the 2010 recreational annual catch limit (ACL) overage, and as a result closes the recreational sector. This action is necessary to reduce overfishing of the South Atlantic golden tilefish resource.

DATES: This rule is effective October 6, 2011 until 12:01 a.m., local time on January 1, 2012.

ADDRESSES: Copies of the final rule for Amendment 17B, the Environmental Assessment for Amendment 17B, and other supporting documentation may be obtained from Catherine Bruger, NMFS, Southeast Regional Office, 263 13th Avenue South, St. Petersburg, FL 33701; telephone: 727-824-5305.

FOR FURTHER INFORMATION CONTACT: Catherine Bruger, telephone: 727-824-5305, fax: 727-824-5308, e-mail: Catherine.Bruger@noaa.gov.

SUPPLEMENTARY INFORMATION: The snapper-grouper fishery of the South Atlantic is managed under the Fishery Management Plan for the Snapper-Grouper Fishery of the South Atlantic Region (FMP). Golden tilefish are managed under this FMP. The FMP was prepared by the South Atlantic Fishery Management Council and is implemented under the authority of the Magnuson-Stevens Fishery Conservation and Management Act (Magnuson-Stevens Act) by regulations at 50 CFR part 622.

Background

The 2006 reauthorization of the Magnuson-Stevens Act implemented new requirements that ACLs and AMs be established to end overfishing and prevent overfishing from occurring. AMs are management controls to prevent ACLs from being exceeded, and to correct or mitigate overages of the ACL if they occur.

On December 30, 2010, NMFS issued a final rule (75 FR 82280) to implement Amendment 17B to the FMP (Amendment 17B). Amendment 17B established ACLs for eight snapper-grouper species in the FMP that are undergoing overfishing, including golden tilefish, and AMs to be implemented if these ACLs are reached or exceeded.

The recreational ACL for golden tilefish, implemented through Amendment 17B, is 1,578 fish. In accordance with regulations at 50 CFR 622.49(b)(1)(ii), if the ACL is exceeded, the Regional Administrator (RA) will publish a notice to reduce the length of the following fishing season by the amount necessary to ensure landings do not exceed the recreational sector ACL in the following fishing year. Additionally, in accordance with these regulations, the recreational landings are evaluated relative to the ACL as follows: For 2010, only 2010 recreational landings will be compared to the ACL; in 2011, the average of 2010 and 2011 recreational landings will be compared to the ACL; and in 2012 and subsequent fishing years, the most recent 3-year running average recreational landings will be compared to the ACL. Therefore this temporary final rule is being implemented based on an evaluation of golden tilefish recreational landings for the 2010 fishing year.

Finalized landings data from the NMFS Southeast Fisheries Science Center indicate that the recreational golden tilefish ACL was exceeded by 2,805 fish in 2010. Therefore, this temporary rule implements an AM to reduce the fishing season for the recreational golden tilefish component of the snapper-grouper fishery from October 6, 2011 until January 1, 2012. As a result of this reduced season, the recreational sector for golden tilefish will be closed effective 12:01 a.m., local time October 6, 2011.

The 2012 recreational fishing season for golden tilefish will begin on January 1, 2012, through December 31, 2012, unless AMs are implemented due to an ACL overage and a reduced fishing season is specified through notification in the Federal Register.

Commencing 12:01 a.m., local time on October 6, 2011, the bag limit and possession limits specified in 50 CFR 622.39(d)(1)(ii) and (d)(2), respectively, are zero and apply to all recreational harvest or possession of golden tilefish in or from the South Atlantic exclusive economic zone.

Classification

The Administrator, Southeast Region, NMFS, (RA) has determined this temporary rule is necessary for the conservation and management of the South Atlantic golden tilefish component of the South Atlantic snapper-grouper fishery and is consistent with the Magnuson-Stevens Act and other applicable laws.

This action is taken under 50 CFR 622.43(a) and is exempt from review under Executive Order 12866.

These measures are exempt from the procedures of the Regulatory Flexibility Act because the temporary rule is issued without opportunity for prior notice and comment.

Pursuant to 5 U.S.C. 553(b)(B), there is good cause to waive the requirements to provide prior notice and opportunity for public comment on this temporary rule. Such procedures are unnecessary because the AMs established by Amendment 17B and located at 50 CFR 622.49(b)(1)(ii) have already been subject to notice and comment and authorize the AA to file a notification with the Office of the Federal Register to reduce the duration of the recreational fishing season the following fishing year if an overage occurs in the prior fishing year. All that remains is to notify the public of the reduced recreational fishing season for golden tilefish for the 2011 fishing year. Additionally, there is a need to immediately notify the public of the reduced recreational fishing season for golden tilefish for the 2011 fishing year, since golden tilefish are overfished and undergoing overfishing and this waiver will help further protect the South Atlantic golden tilefish resource. Also, providing prior notice and opportunity for public comment on this action would be contrary to the public interest because many of those affected by the length of the recreational fishing season, particularly charter vessel and headboat operations, book trips for clients in advance and, therefore need as much time as possible to adjust business plans to account for the reduced recreational fishing season.

For the aforementioned reasons, the AA also finds good cause to waive the 30-day delay in the effectiveness of this action under 5 U.S.C. 553(d)(3).

Authority: 16 U.S.C. 1801 et seq.

Dated: September 29, 2011.
Steven Thur,
Acting Director, Office of Sustainable Fisheries, National Marine Fisheries Service.

[FR Doc. 2011-25536 Filed 9-29-11; 4:15 pm]

BILLING CODE 3510-22-P